FEDERAL COMMUNICATIONS COMMISSION

Sunshine Act Meeting; FCC To Hold Open Commission Meeting; Tuesday, September 11, 2007

Date: September 4, 2007.

The Federal Communications Commission will hold an Open Meeting on the subjects listed below on Tuesday, September 11, 2007, which is scheduled to commence at 9:30 a.m. in Room TW-C305, at 445 12th Street, SW., Washington, DC. The Commission is waiving the sunshine period prohibition contained in section 1.1203 of the Commission's rules, 47 CFR 1.1203, until 5:30 p.m., Friday, September 7, 2007. Thus, presentations with respect to the items listed below will be permitted until that time.

Item No. | Bureau | Subject
1 | Public Safety & Homeland Security | Title: Wireless E911 Location Accuracy Requirements (PS Docket No. 07-114); Revision of the Commission's Rules to Ensure Compatibility with Enhanced 911 Emergency Calling Systems (CC Docket No. 94-102); Association of Public-Safety Communications Officials-International, Inc. Request for Declaratory Ruling; and 911 Requirements for IP-Enabled ServiceProviders (WC Docket No. 05-196).
|  | Summary: The Commission will consider a Report and Order concerning the geographic area over which wireless carriers must meet the Enhanced 911 (E911) location accuracy requirements.
2 | Public Safety & Homeland Security | Title: Improving Public Safety Communications in the 800 MHz Band; Petitions for Waiver of Bethlehem, Pennsylvania and Reading, Pennsylvania; and Petitions for Waiver of Rockdale County, Newton County, City of Covington, Walton County, and Spalding County Georgia (WT Docket No. 02-55).
|  | Summary: The Commission will consider a Memorandum Opinion and Order concerning the obligations of licensees involved in 800 MHz band reconfiguration.
3 | Public Safety & Homeland Security | Title: FCC Announces Supplemental Procedures and Safety & Provides Guidance for Completion of 800 MHz Rebanding.
|  | Summary: The Commission will consider a Public Notice concerning implementation of 800 MHz band reconfiguration.
4 | Media | Title: Implementation of section 621(a)(1) of the Cable Communications Policy Act of 1984 as amended by the Cable Television Consumer Protection and Competition Act of 1992 (MB Docket No. 05-311).
|  | Summary: The Commission will consider a Second Report and Order concerning section 621(a)(1)'s directive that local franchising authorities not unreasonably refuse to award competitive franchises and the application of the Commission's findings in the First Report and Order to incumbent providers.
5 | Media | Title: Implementation of the Cable Television Consumer Protection and Competition Act of 1992; Development of Competition and Diversity in Video Programming Distribution, section 628(c)(5) of the Communications Act, Sunset of Exclusive Contract Prohibition (MB Docket No. 07-29); and Review of the Commission's Program Access Rules and Examination of Programming Tying Arrangements.
|  | Summary: The Commission will consider a Report and Order concerning the exclusive contract prohibition in section 628(c)(2)(D) and modification of the Commission's program access complaint procedures. The Commission will also consider a Notice of Proposed Rulemaking to review its program access rules and to examine programming tying arrangements.
6 | Media | Title: Carriage of Digital Television Broadcast Signals,Amendment to Part 76 of the Commission's Rules (MB Docket No. 98-120).
|  | Summary: The Commission will consider a Third Report and Order and Third Further Notice of Proposed Rulemaking concerning issues related to mandatory cable carriage of digital broadcast television signals after the conclusion of the digital television (“DTV”) transition.
7 | Wireline Competition | Title: Petition of AT&T Inc. for Forbearance Under Competition 47 U.S.C. 160(c) from Title II and Computer Inquiry Rules with Respect to Its Broadband Services; Petition of BellSouth Corporation for Forbearance Under section 47 U.S.C. 160(c) from Title II andComputer Inquiry Rules with Respect to Its Broadband Services (WC Docket No. 06-125); Qwest Petition for Forbearance Under 47 U.S.C. 160(c) from Title II andComputer Inquiry Rules with Respect to Broadband Services; Petition of the Embarq Local Operating Companies for Forbearance Under 47 U.S.C. 160(c) from Application of Computer Inquiry and Certain Title II Common-Carriage Requirements (WC Docket No. 06-147); and Petition of the Frontier and Citizens ILECs for Forbearance Under section 47 U.S.C. 160(c) from Title II and Computer Inquiry Rules with Respect to Their Broadband Services.
|  | Summary: The Commission will consider a Memorandum Opinion and Order concerning requests for forbearance from Title II andComputer Inquiry requirements with respect to certain broadband services.
8 | Wireless Telecommunications | Title: Amendment of Part 101 of the Communications Commission's Rules to Modify Antenna Requirements for the 10.7-11.7 GHz Band (WT Docket No. 07-54, RM-11043); Nextlink Wireless, Inc.; First Avenue Networks, Inc.; Telecom Transport Management Inc.; Conterra Ultra Broadband, LLC; and Petitions for Waiver of sections 101.103 and 101.115 of the Commission's Rules for the Use of Smaller Antennas in the 10.7-11.7 GHz Band.
|  | Summary: The Commission will consider a Report and Order concerning rules governing the use of antennas by Fixed Service operators in the 10.7-11.7 GHz.

Open captioning will be provided for this event. Other reasonable accommodations for people with disabilities are available upon request. Include a description of the accommodation you will need including as much detail as you can. In addition, include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

Federal Communications Commission.
Marlene H. Dortch,
Secretary.

[FR Doc. 07-4440 Filed 9-6-07; 12:38 pm]

BILLING CODE 6712-01-P